DEPARTMENT OF AGRICULTURE

Commodity Credit Corporation

Domestic Sugar Program—FY 2025 Reassignment and FY26 Overall Sugar Marketing Allotment, Cane Sugar and Beet Sugar Marketing Allotments and Company Allocations

AGENCY: Commodity Credit Corporation, U.S. Department of Agriculture.

ACTION: Notice.

SUMMARY: The United States Department of Agriculture (USDA) is issuing this notice to: (1) revise fiscal year (FY) 2025 (crop year 2024) State cane sugar allotments and allocations to sugarcane processors; and (2) announce the FY 2026 (crop year 2025) overall sugar marketing allotment quantity (OAQ), State cane sugar allotments, and sugar beet and sugarcane processor allocations. Action (1) applies to all domestic cane sugar marketed for human consumption in the United States from October 1, 2024, through September 30, 2025, and action (2) applies to all domestic beet and cane sugar marketed for human consumption in the United States from October 1, 2025, through September 30, 2026.

FOR FURTHER INFORMATION CONTACT: Carlann Unger; telephone: (773) 573-5163; or email, Carlann.Unger@usda.gov. Individuals with disabilities who require alternative means for communication should contact the USDA Target Center at (202) 720-2600 (voice and text telephone (TTY mode)) or dial 711 for Telecommunications Relay service (both voice and text telephone users can initiate this call from any telephone).

SUPPLEMENTARY INFORMATION:

FY 2025 Cane Reassignment

In accordance with section 359e of the Agricultural Adjustment Act of 1938 (7 U.S.C. 1359ee), after evaluating each sugarcane processor's ability to market its full allocation, USDA is transferring FY 2025 allocations from sugarcane processors with surplus allocation to those with deficit allocation, as shown in the table below. Further evaluation resulted in no adjustments to the beet sector allotments or allocations.

Table 1—FY 2025 Revised Beet and Cane Allotments and Allocations
[Short tons, raw value]
Distribution | Initial FY25 allotments & allocations | FY25 revisions 7/17/2025 | Reassignments | Revised allotments & allocations
Beet Sugar | 5,682,293 | 5,682,293 | 0 | 5,682,293
Cane Sugar | 4,772,708 | 4,272,708 | 0 | 4,272,708
Imports |  | 500,000 | 0 | 500,000
Total OAQ | 10,455,000 | 10,455,000 | 0 | 10,455,500
Beet Processors’ Marketing Allocations:
Amalgamated Sugar Co | 1,216,622 | 1,288,108 | 0 | 1,288,108
American Crystal Sugar Co | 2,089,791 | 2,012,222 | 0 | 2,012,222
Michigan Sugar Co | 586,842 | 618,790 | 0 | 618,790
Minn-Dak Farmers Co-op | 394,629 | 415,265 | 0 | 415,265
So. Minn Beet Sugar Co-op | 766,929 | 707,541 | 0 | 707,541
Western Sugar Co | 579,901 | 581,552 | 0 | 581,552
Wyoming Sugar Company, LLC | 47,579 | 58,813 | 0 | 58,813
Total Beet Sugar | 5,682,293 | 5,682,293 | 0 | 5,682,293
State Cane Sugar Allotments:
Florida | 2,690,953 | 2,079,201 | −53,540 | 2,025,661
Louisiana | 2,081,755 | 2,193,507 | 53,540 | 2,247,046
Texas | 0 | 0 | 0 | 0
Total Cane Sugar | 4,772,708 | 4,272,708 | 0 | 4,272,708
Cane Processors’ Marketing Allocations:
Florida:
Florida Crystals | 1,107,936 | 724,737 | −58,367 | 666,370
Growers Co-op. of FL | 484,063 | 410,893 | −11,145 | 399,748
U.S. Sugar Corp | 1,098,954 | 943,571 | 15,972 | 959,542
Total Florida | 2,690,953 | 2,079,201 | −53,540 | 2,025,661
Louisiana:
Sugar Growers and Refiners | 1,445,222 | 1,501,101 | 74,066 | 1,575,167
M.A. Patout & Sons | 636,533 | 692,406 | −20,526 | 671,880
Total Louisiana | 2,081,755 | 2,193,507 | 53,540 | 2,247,046
Texas:
Rio Grande Valley | 0 | 0 | 0 | 0
* Values may not sum to column total due to rounding.

FY 2026 Overall Allotment Quantity Establishment

The Agricultural Adjustment Act of 1938, as amended, requires USDA to establish the OAQ at a quantity not less than 85 percent of the estimated quantity of sugar for domestic human consumption for the crop year. USDA is establishing the initial FY 2026 (crop year 2025) OAQ at 10,166,000 STRV, equal to 85 percent of 11,960,000 STRV, the estimated quantity of sugar for domestic human consumption for FY 2026 as forecast in the September 2025 World Agricultural Supply and Demand Estimates (WASDE) report. Per the Agricultural Adjustment Act of 1938, as amended, 54.35 percent of the OAQ is distributed among beet processors and 45.65 percent is distributed among the sugarcane States and cane processors, with the beet and cane sector allotments distributed to individual processors according to formulas set out in law.¹ Although the Agricultural Adjustment Act of 1938, as amended, directs USDA to assign 325,000 STRV of the cane sector allotment to “offshore States,” CCC has determined that while sugarcane was formerly produced in Puerto Rico and Hawaii, both have permanently exited sugarcane production. As a result, CCC has allocated the 325,000 STRV of the cane sector allotment previously reserved for offshore States to the mainland sugarcane producing States. Additionally, because no sugarcane crop is forecast to be produced in Texas during FY26 (crop year 2025), the Texas portion of the mainland sugarcane allotment is distributed to other mainland sugarcane producing states. The initial FY 2026 sugar marketing State allotments and processor allocations are listed in the table below.

¹ See 7 U.S.C. 1359aa et seq., and 7 CFR part 1435.

Table 2—Initial FY 2026 State Allotments and Beet and Cane Processor Allocations
[Short tons, raw value]
Distribution | Initial FY26 allotments & allocations
Beet Sugar | 5,525,221
Cane Sugar | 4,640,779
Total OAQ | 10,166,000
Beet Processors’ Marketing Allocations:
Amalgamated Sugar Co | 1,182,992
American Crystal Sugar Co | 2,031,883
Michigan Sugar Co | 570,620
Minn-Dak Farmers Co-op | 383,721
So. Minn Beet Sugar Co-op | 745,729
Western Sugar Co | 564,013
Wyoming Sugar Company, LLC | 46,264
Total Beet Sugar | 5,525,221
State Cane Sugar Allotments:
Florida | 2,616,569
Louisiana | 2,024,210
Texas | 0
Total Cane Sugar | 4,640,779
Cane Processors’ Marketing Allocations:
Florida:
Florida Crystals | 1,077,310
Growers Co-op. of FL | 470,682
U.S. Sugar Corp | 1,068,577
Total Florida | 2,616,569
Louisiana:
Sugar Growers and Refiners | 1,405,272
M.A. Patout & Sons | 618,938
Total Louisiana | 2,024,210
Texas:
Rio Grande Valley | 0
* Values may not sum to column total due to rounding.

USDA will closely monitor stocks, consumption, imports and all sugar market and program variables on an ongoing basis and may make program adjustments during FY 2026 if needed.

William Beam,
Executive Vice President, Commodity Credit Corporation.

[FR Doc. 2025-18818 Filed 9-26-25; 8:45 am]

BILLING CODE 3411-E2-P